DEPARTMENT OF TRANSPORTATION

Federal Aviation Administration

14 CFR Part 39

[Docket No. FAA-2007-28370; Directorate Identifier 2003-NM-239-AD; Amendment 39-15439; AD 2008-06-27]

RIN 2120-AA64

Airworthiness Directives; Goodrich Evacuation Systems Approved Under Technical Standard Orders (TSOs) TSO-C69, TSO-C69a, TSO-C69b, and TSO-C69c, Installed on Various Boeing, McDonnell Douglas, and Airbus Transport Category Airplanes

AGENCY: Federal Aviation Administration (FAA), DOT.

ACTION: Final rule.

SUMMARY: We are adopting a new airworthiness directive (AD) for certain Goodrich evacuation systems approved under Technical Standard Orders (TSOs) TSO-C69, TSO-C69a, TSO-C69b, and TSO-C69c, installed on certain Boeing, McDonnell Douglas, and Airbus transport category airplanes. For certain systems, this AD requires replacing the evacuation system's shear-pin restraints with new ones. For certain other systems, this AD requires an inspection for manufacturing lot numbers; and a general visual inspection of the shear-pin restraint for discrepancies, and corrective actions if necessary. This AD results from several reports of corroded shear-pin restraints that prevented Goodrich evacuation systems from deploying properly. We are issuing this AD to prevent failure of an evacuation system, which could impede an emergency evacuation and increase the chance of injury to passengers and flightcrew during the evacuation.

DATES: This AD is effective April 28, 2008.

The Director of the Federal Register approved the incorporation by reference of a certain publication listed in this AD as of April 28, 2008.

The Director of the Federal Register approved the incorporation by reference of a certain other publication listed in this AD as of March 11, 2008 (73 FR 6586, February 5, 2008).

ADDRESSES: For service information identified in this AD, contact Goodrich, Aircraft Interior Products, ATTN: Technical Publications, 3414 South Fifth Street, Phoenix, AZ 85040-1169.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Tracy Ton, Aerospace Engineer, Cabin Safety/Mechanical and Environmental Systems Branch, ANM-150L, FAA, Los Angeles Aircraft Certification Office, 3960 Paramount Boulevard, Lakewood, California 90712-4137; telephone (562) 627-5352; fax (562) 627-5210.

SUPPLEMENTARY INFORMATION:

Discussion

We issued a notice of proposed rulemaking (NPRM) to amend 14 CFR part 39 to include an airworthiness directive (AD) that would apply to certain Goodrich evacuation systems approved under Technical Standard Orders (TSOs) TSO-C69, TSO-C69a, TSO-C69b, and TSO-C69c, installed on certain Boeing, McDonnell Douglas, and Airbus transport category airplanes. That NPRM was published in the Federal Register on June 8, 2007 (72 FR 31761). For certain systems, that NPRM proposed to require replacing the evacuation systems shear-pin restraints with new ones. For certain other systems, that NPRM proposed to require an inspection for manufacturing lot numbers; and a general visual inspection of the shear-pin restraint for discrepancies, and corrective actions if necessary.

Comments

We gave the public the opportunity to participate in developing this AD. We considered the comments received from the 5 commenters.

Supportive Comments

Air Line Pilots Association, International (ALPA), and Air Transport Association (ATA), on behalf of its member Continental Airlines, support the intent of the rule. Continental states that it has captured Goodrich Service Bulletin 25-343 on a total of 969 slide assemblies since the service bulletin's October 2003 release.

Request To Combine Two AD Actions Into One AD Action

ATA, on behalf of its member United Airlines, notes that this NPRM is similar to NPRM 2005-NM-139-AD (AD 2008-03-05, amendment 39-15354 (73 FR 6586, February 5, 2008)). United requests that this AD action be incorporated into NPRM 2005-NM-139-AD.

We do not agree with the commenter's request. While the evacuation slides affected by this AD and AD 2008-03-05 are identified in the same service bulletin and have the same unsafe condition, the individual evacuation slides were approved under different certification processes. This AD affects certain evacuation slides that were approved under a TSO that specified certain requirements for evacuation slides. AD 2008-03-05 affects airplanes that had certain other evacuation slides approved as part of a type certificate. The TSO approval process specifies the airplane model(s) on which a specific evacuation slide can be installed. These two approval processes affect how we issue ADs. We have not changed this AD or AD 2008-03-05 in this regard.

Request To Extend Compliance Times

ATA, on behalf of its member United Airlines, requests that the compliance times be extended from 18 months after the effective date of the AD for Model 767 airplane off-wing evacuation systems and 36 months after the effective date of the AD for the other evacuation systems to 36 and 48 months respectively. The commenters state that extended compliance times would match routine overhaul cycles, account for parts lead-time, take into consideration the large quantity of affected evacuation systems, and relieve a burden on resources and capacity.

We disagree with the request to extend the compliance times. A significant number of affected evacuation systems have already been modified. We have received confirmation from Goodrich that parts are available to support the 18- and 36-month compliance times. In developing an appropriate compliance time for this AD, we considered the manufacturer's recommendation, the degree of urgency associated with the subject unsafe condition, and the average utilization of the affected fleet. In light of all of these factors, we find that a compliance time of 18 months for Goodrich evacuation systems installed on Boeing Model 767 off-wing ramp/slide units and 36 months for all other evacuation systems represents an appropriate interval of time for affected airplanes to continue to operate without compromising safety. We have not changed the AD in this regard.

Request To Accept Certain Service Bulletins for Accomplishment

ATA, on behalf of its member United Airlines, requests that the FAA accept accomplishment of either Goodrich Service Bulletin 25-343, Revision 1, dated January 31, 2005; or Revision 2, dated October 11, 2006; after the effective date of the AD. The commenters explain that there are no technical or procedural changes between these revisions and the most recent revision, Revision 3, dated January 12, 2007.

We disagree with the request to accept accomplishment of earlier service bulletin revisions after the effective date of the AD. It is our policy to require compliance with the most recent revision of service information. However, in paragraph (k) of this AD, we provide credit for accomplishment of the earlier service bulletin revisions if done before the effective date of the AD. We have not changed the AD in this regard.

Request To Refer to Current Service Bulletins as Acceptable for Credit

Goodrich, the evacuation slide manufacturer, requests that we give credit for accomplishing paragraph (h) of this AD to airlines/overhaul shops that might have accomplished Revision 3 of Goodrich Service Bulletin 25-343, dated January 12, 2007; and Revision 2 of Goodrich Service Bulletin 25-344, dated October 11, 2006; before the effective date of this AD. Goodrich states that “The wording of paragraph (k) does not clearly provide credit for actions done in compliance with 25-343, revision 3, and 25-344, revision 2, unless it occurs ‘after the effective date of this AD'.”

We infer that Goodrich interprets the text of paragraph (k) of the AD to mean that operators that have accomplished Revision 3 of Goodrich Service Bulletin 25-343 or Revision 2 of Goodrich Service Bulletin 25-344 before the effective date would be required to accomplish those actions again after the effective date to comply with this AD. We find that clarification is necessary. Paragraph (e) of this AD states that the actions must be done as specified in the AD “unless the actions have already been done,” so it is not necessary to repeat this information in paragraph (k) of the AD. We refer to Goodrich Service Bulletin 25-343, Revision 3, dated January 12, 2007; and Goodrich Service Bulletin 25-344, Revision 2, dated October 11, 2006; as the sources of service information for accomplishing the requirements of paragraph (h) of this AD. Accomplishing the requirements of this AD in accordance with these service bulletins before the effective date of the AD is acceptable for compliance with this AD. We have not changed the AD in this regard.

Request To Allow Other Methods of Recording Compliance

ATA, on behalf of its member United Airlines, states that the Accomplishment Instructions of Goodrich Service Bulletin 25-343 instruct the operator to record service bulletin compliance on the system information card. United requests that the method of recording compliance on the card be made optional, as operators have alternative means to record compliance and the system information card might not be available.

We infer that the commenters want us to revise the AD to allow different methods of recording compliance with the service bulletin. We agree with the request to revise the AD. We have revised paragraph (h) of this AD to specify that recording compliance with the service bulletin in accordance with the service bulletin instructions is not required by this AD. Operators may record service bulletin compliance whichever way their applicable record-keeping system specifies. However, recording compliance with the AD is still required. Recording AD compliance is accomplished in a maintenance log, on job/task cards, or some other method approved by the operator's principal inspector or local flight standards district office. We have not changed the AD in this regard.

Request To Reverse Order of Sub-Paragraphs

Goodrich requests that we reverse the sequence of paragraphs (f)(1) and (f)(2) of the NPRM so that the references to Tables 1 and 2 of the AD are called out first before Table 3.

We agree with the commenter's request. Revising the sequence of the paragraphs to match the sequence of the tables will reduce confusion. We have changed paragraphs (f)(1) and (f)(2) of this AD as requested.

Clarification of Alternative Method of Compliance (AMOC) Paragraph

We have revised this action to clarify the appropriate procedure for notifying the principal inspector before using any approved AMOC on any airplane to which the AMOC applies.

Conclusion

We reviewed the relevant data, considered the comments received, and determined that air safety and the public interest require adopting the AD with the changes described previously. We also determined that this change will not increase the economic burden on any operator or increase the scope of the AD.

Costs of Compliance

This AD affects certain Goodrich evacuation systems installed on about 2,844 airplanes worldwide. This AD affects about 1,240 airplanes of U.S. registry. The following table provides the estimated costs for U.S. operators to comply with this AD.

Estimated Costs
Action | Work hours | Average labor rate per hour | Parts | Cost per slide unit | Number of slide units per airplane | Fleet cost
Replacement | Between 2 and 9 | $80 | Between $58 and $638, depending on number of restraints | Between $218 and $1,358 | Between 2 and 12 | Between $540,640 and $20,207,040.
Inspection | Between 2 and 9 | 80 | None | Between $160 and $720 | Between 2 and 12 | Between $396,800 and $10,713,600.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979), and

(3) Will not have a significant economic impact, positive or negative, on a substantial number of small entities under the criteria of the Regulatory Flexibility Act.

You can find our regulatory evaluation and the estimated costs of compliance in the AD Docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2008-06-27 Goodrich (Formerly BFGoodrich): Amendment 39-15439. Docket No. FAA-2007-28370; Directorate Identifier 2003-NM-239-AD.

Effective Date

(a) This airworthiness directive (AD) is effective April 28, 2008.

Affected ADs

(b) None.

Applicability

(c) This AD applies to:

(1) Goodrich evacuation systems approved under Technical Standard Orders (TSOs) TSO-C69, TSO-C69a, and TSO-C69b, installed on certain Boeing airplanes, certificated in any category, as listed in Table 1 of this AD;

(2) Goodrich evacuation systems approved under TSOs TSO-C69, TSO-C69a, and TSO-C69b, installed on certain McDonnell Douglas airplanes, certificated in any category, as listed in Table 2 of this AD; and

(3) Goodrich evacuation systems approved under TSOs TSO-C69a, TSO-C69b, and TSO-C69c, installed on certain Airbus airplanes, certificated in any category, as listed in Table 3 of this AD.

Table 1.—Goodrich Evacuation Systems Installed on Certain Boeing Model Airplanes
Goodrich evacuation systems having part number (P/N)— | Having any serial number (S/N)— | Component/part is named— | Installed on Boeing Model—
(i) 101623-303 | PB0400 through PB0453 inclusive | Slide, forward/aft door | 767-200 and -300 series airplanes.
(ii) 101630-305 | PG0276 through PG0309 inclusive | Ramp/Slide, off-wing, left-hand (LH) side | 767-200 and -300 series airplanes.
(iii) 101630-306 | PC0264 through PC0368 inclusive | Ramp/Slide, off-wing, right-hand (RH) side | 767-200 and -300 series airplanes.
(iv) 101655-305 | PK0161 through PK0212 inclusive | Ramp/Slide, off-wing, LH side | 767-200 and -300 series airplanes.
(v) 101655-306 | PF0164 through PF0220 inclusive | Ramp/Slide, off-wing, RH side | 767-200 and -300 series airplanes.
(vi) 101656-305 | PH0300 through PH0390 inclusive | Ramp/Slide, off-wing, LH side | 767-200 and -300 series airplanes.
(vii) 101656-306 | PD0294 through PD0378 inclusive | Ramp/Slide, off-wing, RH side | 767-200 and -300 series airplanes.
(viii) 101658-101 and 101658-103 | PAK137 through PAK150 inclusive | Slide, forward door | 737-200 series airplanes.
(ix) 101659-101 through 101659-205 inclusive | PAL671 through PAL738 inclusive | Slide, aft door | 737-200, -300, -400, and -500 series airplanes.
(x) 101660-101 through 101660-107 inclusive | PAB611 through PAB649 inclusive | Slide, forward door | 737-300, -400, and -500 series airplanes.
(xi) 5A3086-3 and 5A3086-301 | B3F315 through B3F611 inclusive | Slide, forward door | 737-600, -700, -700C, -800, and -900 series airplanes.
(xii) 5A3088-3 and 5A3088-301 | B3A338 through B3A685 inclusive | Slide, aft door | 737-600, -700, -700C, -800, and -900 series airplanes.
(xiii) 5A3109-1 | Odd S/Ns ST0015 through ST0131 | Ramp/Slide, off-wing, LH side | 777-300 and -300ER series airplanes.
(xiv) 5A3109-2 | Even S/Ns ST0014 through ST0128 | Ramp/Slide, off-wing, RH side | 777-300 and -300ER series airplanes.
(xv) 5A3294-1 and 5A3294-2 | SS0001 through SS0210 inclusive | Slide/Raft, door 2 | 767-300 and -400ER series airplanes.
(xvi) 5A3295-1 and 5A3295-3 | SF0001 through SF0501 inclusive | Slide/Raft, doors 1 and 4 | 767-200, -300, and -400ER series airplanes.
(xvii) 5A3307-1 through 5A3307-5 inclusive and 5A3307-301 | BNG0213 through BNG4911 inclusive | Slide, forward/aft door | 737-600, -700, -700C, -800, and -900 series airplanes.
(xviii) 7A1323-111 through 7A1323-114 inclusive | GS1340 through GS1879 inclusive | Slide, stretched upper deck | 747-100B SUD, -300, -400, and -400D series airplanes.
(xix) 7A1394-4 and 7A1394-6 | GV0214 through GV0249 inclusive | Slide/Raft, forward/aft doors | 767-200 and -300 series airplanes.
(xx) 7A1418-21 and 7A1418-23 | Odd S/Ns GT1591 through GT1857 | Ramp/Slide, off-wing door 3, LH side | 747-100, -100B, -100B SUD, -200B, -200C, -300, -400, -400D, and 747SR series airplanes.
(xxi) 7A1418-22 and 7A1418-24 | Even S/Ns GT1576 through GT1830 | Ramp/Slide, off-wing door 3, RH side | 747-100, -100B, -100B SUD, -200B, -200C, -300, -400, -400D, and 747SR series airplanes.
(xxii) 7A1447-39 through 7A1447-54 inclusive | GW2682 through GW2923 inclusive | Slide/Raft, doors1, 2, and 4 | 747-100, -100B, -100B SUD, -200B, -200C, -300, and 747SR series airplanes.
(xxiii) 7A1448-5 through 7A1448-12 inclusive | GX1538 through GX1593 inclusive | Slide/Raft, door 5 | 747-100, -100B, -100B SUD, -200B, -200C, -300, and 747SR series airplanes.
(xxiv) 7A1467-21 and 7A1467-23 | Odd S/Ns GH1969 through GH2443 | Slide/Raft, doors 1 and 4, LH side | 747-400 and -400D series airplanes.
(xxv) 7A1467-22 and 7A1467-24 | Even S/Ns GH1954 through GH2420 | Slide/Raft, doors 1 and 4, RH side | 747-400 and -400D series airplanes.
(xxvi) 7A1469-13 | Odd S/Ns GJ909 through GJ1163 | Slide/Raft, door 5, LH side | 747-400 and -400D series airplanes.
(xxvii) 7A1469-14 | Even S/Ns GJ912 through GJ1150 | Slide/Raft, door 5, RH side | 747-400 and -400D series airplanes.
(xxviii) 7A1479-13 | Odd S/Ns GI1019 through GI1265 | Slide/Raft, door 2, LH side | 747-300, -400, and -400D series airplanes.
(xxix) 7A1479-14 | Even S/Ns GI1036 through GI1298 | Slide/Raft, door 2, RH side | 747-300, -400, and -400D series airplanes.
(xxx) 7A1489-3 | Odd S/Ns GK355 through GK403 | Slide/Raft, mid door, LH side | 767-300 series airplanes.
(xxxi) 7A1489-4 | Even S/Ns GK356 through GK406 | Slide/Raft, mid door, RH side | 767-300 series airplanes.
(xxxii) 101623-107 through 101623-303 inclusive | PB0001 through PB0399 inclusive, and all S/Ns with a B23 prefix | Slide, forward/aft door | 767-200 and -300 series airplanes.
(xxxiii) Odd dash numbers 101630-105 through 101630-305 | PG0001 through PG0275 inclusive, and all S/Ns with a B101 prefix | Ramp/Slide, off-wing, LH side | 767-200 and -300 series airplanes.
(xxxiv) Even dash numbers 101630-106 through 101630-306 | PC0001 through PC0263 inclusive, and all S/Ns with a B102 prefix | Ramp/Slide, off-wing, RH side | 767-200 and -300 series airplanes.
(xxxv) Odd dash numbers 101655-101 through 101655-305 | PK0001 through PK0160 inclusive, and all S/Ns with an L55 prefix | Ramp/Slide, off-wing, LH side | 767-200 and -300 series airplanes.
(xxxvi) Even dash numbers 101655-102 through 101655-306 | PF0001 through PF0163 inclusive, and all S/Ns with an R55 prefix | Ramp/Slide, off-wing, RH side | 767-200 and -300 series airplanes.
(xxxvii) Odd dash numbers 101656-103 through 101656-305 | PH0001 through PH0299 inclusive, and all S/Ns with an L56 prefix | Ramp/Slide, off-wing, LH side | 767-200 and -300 series airplanes.
(xxxviii) Even dash numbers 101656-104 through 101656-306 | PD0001 through PD0293 inclusive, and all S/Ns with an R56 prefix | Ramp/Slide, off-wing, RH side | 767-200 and -300 series airplanes.
(xxxix) 101658-101 and 101658-103 | PAK001 through PAK136 inclusive | Slide, forward door | 737-200 series airplanes.
(xl) 101659-101 through 101659-205 inclusive | PAL001 through PAL670 inclusive | Slide, aft door | 737-200, -300, -400, and -500 series airplanes.
(xli) 101660-101 through 101660-107 inclusive | PAB001 through PAB610 inclusive | Slide, forward door | 737-300, -400, and -500 series airplanes.
(xlii) 5A3086-3 and 5A3086-301 | B3F001 through B3F314 inclusive | Slide, forward door | 737-600, -700, -700C, -800, and -900 series airplanes.
(xliii) 5A3088-3 and 5A3088-301 | B3A001 through B3A337 inclusive | Slide, aft door | 737-600, -700, -700C, -800, and -900 series airplanes.
(xliv) 5A3109-1 | Odd S/Ns, ST0001 through ST0013 | Ramp/Slide, off-wing, LH side | 777-300 and -300ER series airplanes.
(xlv) 5A3109-2 | Even S/Ns, ST0002 through ST0012 | Ramp/Slide, off-wing, RH side | 777-300 and -300ER series airplanes.
(xlvi) 5A3307-1 through 5A3307-5 inclusive, and 5A3307-301 | BNG0001 through BNG0212 inclusive | Slide, forward/aft door | 737-600, -700, -700C, -800, and -900 series airplanes.
(xlvii) 7A1323-1 through 7A1323-114 inclusive | GS0001 through GS1339 inclusive, and all S/Ns with a single G prefix | Slide, stretched upper deck | 747-100B SUD, -300, -400, and -400D series airplanes.
(xlviii) 7A1394-3 through 7A1394-6 inclusive | GV001 through GV213 inclusive, and all S/Ns with a single G prefix | Slide/Raft, forward/aft doors | 767-200 and -300 series airplanes.
(xlix) Odd dash numbers 7A1418-1 through 7A1418-23 | Odd S/Ns GT0001 through GT1589, and all odd S/Ns with a single letter G prefix | Ramp/Slide, off-wing door 3, LH side | 747-100, -100B, -100B SUD, -200B, -200C, -300, -400, -400D, and 747SR series airplanes.
(l) Even dash numbers 7A1418-2 through 7A1418-24 | Even S/Ns GT0002 through GT1574, and all even S/Ns with a single letter G prefix | Ramp/Slide, off-wing door 3, RH side | 747-100, -100B, -100B SUD, -200B, -200C, -300, -400, -400D, and 747SR series airplanes.
(li) 7A1437-1 through 7A1437-8 inclusive | GW0001 through GW2923 inclusive, and all S/Ns with a single letter G prefix | Slide/Raft, doors 1, 2, and 4 | 747-100B, -200C, -300, and 747SR series airplanes.
(lii) 7A1439-1 through 7A1439-8 inclusive | GX0001 through GX1593 inclusive, and all S/Ns with a single letter G prefix | Slide/Raft, door 5 | 747-100B, -200C, -300, and 747SR series airplanes.
(liii) 7A1447-1 through 7A1447-54 inclusive | GW0001 through GW2681 inclusive, and all S/Ns with a single letter G prefix | Slide/Raft, doors 1, 2, and 4 | 747-100, -100B, -100B SUD, -200B, -200C, -300, and 747SR series airplanes.
(liv) 7A1448-1 through 7A1448-12 inclusive | GX0001 through GX1537, and all S/Ns with a single letter G prefix | Slide/Raft, door 5 | 747-100, -100B, -100B SUD, -200B, -200C, -300, and 747SR series airplanes.
(lv) Odd dash numbers 7A1467-1 through 7A1467-23 | Odd S/Ns GH0001 through GH1967, and all odd S/Ns with a single letter G prefix | Slide/Raft, doors 1 and 4, LH side | 747-400 and -400D series airplanes.
(lvi) Even dash numbers 7A1467-2 through 7A1467-24 | Even S/Ns GH0002 through GH1952, and all even S/Ns with a single letter G prefix | Slide/Raft, doors 1 and 4, RH side | 747-400 and -400D series airplanes.
(lvii) Odd dash numbers 7A1469-1 through 7A1469-13 | Odd S/Ns GJ001 through GJ907, and all odd S/Ns with a single letter G prefix | Slide/Raft, door 5, LH side | 747-400 and -400D series airplanes.
(lviii) Even dash numbers 7A1469-2 through 7A1469-14 | Even S/Ns GJ002 through GJ910, and all even S/Ns with a single letter G prefix | Slide/Raft, door 5, RH side | 747-400 and -400D series airplanes.
(lix) Odd dash numbers 7A1479-1 through 7A1479-13 | Odd S/Ns GI0001 through GI1017, and all odd S/Ns with a single letter G prefix | Slide/Raft, door 2, LH side | 747-300, -400, and -400D series airplanes.
(lx) Even dash numbers 7A1479-2 through 7A1479-14 | Even S/Ns GI0002 through GI1034, and all even S/Ns with a single letter G prefix | Slide/Raft, door 2, RH side | 747-300, -400, and -400D series airplanes.
(lxi) 7A1489-1 and 7A1489-3 | Odd S/Ns GK001 through GK353, and all odd S/Ns with a single letter G prefix | Slide/Raft, mid door, LH side | 767-300 series airplanes.
(lxii) 7A1489-2 and 7A1489-4 | Even S/Ns GK002 through GK354, and all even S/Ns with a single letter G prefix | Slide/Raft, mid door, RH side | 767-300 series airplanes.

Table 2.—Goodrich Evacuation Systems Installed on Certain McDonnell Douglas Model Airplanes
Goodrich evacuation systems having P/N— | Having any S/N— | Component/part is named— | Installed on McDonnell Douglas Model—
(i) 100504-101 through 100504-205 inclusive | D9F161 through D9F256 inclusive, and PU0325 through PU0331 inclusive | Slide, forward door | DC-9-81 (MD-81), DC-9-82 (MD-82), DC-9-83 (MD-83), and DC-9-87 (MD-87) airplanes; Model MD-88 airplanes; and Model MD-90-30 airplanes.
(ii) 100505-101 through 100505-201 inclusive | D9A078 through D9A122 inclusive, and PS0151 through PS0157 inclusive | Slide, aft door | DC-9-81 (MD-81), DC-9-82 (MD-82), DC-9-83 (MD-83), and DC-9-87 (MD-87) airplanes; Model MD-88 airplanes; and Model MD-90-30 airplanes.
(iii) 100506-103 through 100506-203 inclusive | D9T085 through D9T127 inclusive, and PT0175 through PT0178 inclusive | Slide, tailcone | DC-9-81 (MD-81), DC-9-82 (MD-82), DC-9-83 (MD-83), and DC-9-87 (MD-87) airplanes; Model MD-88 airplanes; and Model MD-90-30 airplanes.
(iv) 100504-101 through 100504-205 inclusive | D9F001 through D9F160 inclusive, and PU0001 through PU0324 inclusive | Slide, forward door | DC-9-81 (MD-81), DC-9-82 (MD-82), DC-9-83 (MD-83), and DC-9-87 (MD-87) airplanes; Model MD-88 airplanes; and Model MD-90-30 airplanes.
(v) 100505-101 through 100505-201 inclusive | D9A001 through D9A077 inclusive, and PS0001 through PS0150 inclusive | Slide, aft door | DC-9-81 (MD-81), DC-9-82 (MD-82), DC-9-83 (MD-83), and DC-9-87 (MD-87) airplanes; Model MD-88 airplanes; and Model MD-90-30 airplanes.
(vi) 100506-103 through 100506-203 inclusive | D9T001 through D9T084 inclusive, and PT0001 through PT0174 inclusive | Slide, tailcone | DC-9-81 (MD-81), DC-9-82 (MD-82), DC-9-83 (MD-83), and DC-9-87 (MD-87) airplanes; Model MD-88 airplanes; and Model MD-90-30 airplanes.
(vii) 7A1274-3 through 7A1274-12 inclusive | All | Slide, forward/ service door | DC-9-81 (MD-81) and DC-9-82 (MD-82) airplanes.
(viii) 7A1275-3 through 7A1275-20 inclusive | All | Slide, aft door | DC-9-81 (MD-81) and DC-9-82 (MD-82) airplanes.
(ix) 7A1276-3 through 7A1276-12 inclusive | All | Slide, tailcone | DC-9-11, DC-9-12, DC-9-13, DC-9-14, DC-9-15, and DC-9-15F airplanes; Model DC-9-21 airplanes; Model DC-9-31, DC-9-32, DC-9-32 (VC-9C), DC-9-32F, DC-9-33F, DC-9-34, DC-9-34F, and DC-9-32F (C-9A, C-9B) airplanes; Model DC-9-41 airplanes; Model DC-9-51 airplanes; and Model DC-9-81 (MD-81), DC-9-82 (MD-82), DC-9-83 (MD-83), and DC-9-87 (MD-87) airplanes.

Table 3.—Goodrich Evacuation Systems Installed on Certain Airbus Model Airplanes
Goodrich evacuation system having P/N— | Having any S/N— | Component/part is named— | Installed on Airbus Model—
(i) 4A3928-1 | AY0001 through AY0007 inclusive | Slide, door 3 type 1, LH side | A340-541 airplanes.
(ii) 4A3928-2 | AZ0001 through AZ0007 inclusive | Slide, door 3 type 1, RH side | A340-541 airplanes.
(iii) 4A3931-1 and 4A3931-3 | AQ0001 through AQ0028 inclusive | Ramp/Slide, off-wing, LH side | A340-642 airplanes.
(iv) 4A3931-2 and 4A3931-4 | AT0001 through AT0028 inclusive | Ramp/Slide, off-wing, RH side | A340-642 airplanes.
(v) 4A3934-1 and 4A3934-3 | AK0001 through AK0028 inclusive | Slide/Raft, door 3, LH side | A340-642 airplanes.
(vi) 4A3934-2 and 4A3934-4 | AM0001 through AM0028 inclusive | Slide/Raft, door 3, RH side | A340-642 airplanes.
(vii) 7A1296-004 and 7A1296-005 | WB0030 through WB0033 inclusive | Slide, mid door | A300 B2-1A, B2-1C, B2K-3C, and B2-203 airplanes; Model A300 B4-2C, B4-103, and B4-203 airplanes; Model A300 B4-601, B4-603, B4-620, and B4-622 airplanes; Model A300 B4-605R and B4-622R airplanes; and Model A300 F4-605R and F4-622R airplanes.
(viii) 7A1297-103 and 7A1297-203 | WF0257 through WF0273 inclusive | Ramp/Slide, off-wing door | A310-203, -204, -221, and -222 airplanes; and Model A310-304, -322, -324, and -325 airplanes.
(ix) 7A1298-004 and 7A1298-005 | WA0327 through WA0374 inclusive | Slide, forward/aft door | A300 B2-1A, B2-1C, B2K-3C, and B2-203 airplanes; Model A300 B4-2C, B4-103, and B4-203 airplanes; Model A300 B4-601, B4-603, B4-620, and B4-622 airplanes; Model A300 B4-605R and B4-622R airplanes; Model A300 F4-605R and F4-622R airplanes; and Model A310-203, -204, -221, and -222 airplanes; and Model A310-304, -322, -324, and -325 airplanes.
(x) 7A1299-006 | WE0149 through WE0172 inclusive | Slide, emergency door | A300 B2-1A, B2-1C, B2K-3C, and B2-203 airplanes; Model A300 B4-2C, B4-103, and B4-203 airplanes; Model A300 B4-601, B4-603, B4-620, and B4-622 airplanes; Model A300 B4-605R and B4-622R airplanes; and Model A300 F4-605R and F4-622R airplanes.
(xi) 7A1300-007 | WC0423 through WC0507 inclusive | Slide/Raft, forward/aft door | A300 B2-1A, B2-1C, B2K-3C, and B2-203 airplanes; Model A300 B4-2C, B4-103, and B4-203 airplanes; Model A300 B4-601, B4-603, B4-620, and B4-622 airplanes; Model A300 B4-605R and B4-622R airplanes; Model A300 F4-605R and F4-622R airplanes; and Model A310-203, -204, -221, and -222 airplanes; and Model A310-304, -322, -324, and -325 airplanes.
(xii) 7A1359-005 | WD0134 through WD0159 inclusive | Slide/Raft, mid door | A300 B2-1A, B2-1C, B2K-3C, and B2-203 airplanes; Model A300 B4-2C, B4-103, and B4-203 airplanes; Model A300 B4-601, B4-603, B4-620, and B4-622 airplanes; Model A300 B4-605R and B4-622R airplanes; and Model A300 F4-605R and F4-622R airplanes.
(xiii) 7A1508-109 through 7A1508-117 inclusive | AA1041 through AA2419 inclusive | Slide/Raft, doors 1 and 4 | A330-201, -202, -203, -223, and -243 airplanes; Model A330-301, -321, -322, -323, -341, -342, and -343 airplanes; Model A340-211, -212, and -213 airplanes; Model A340-311, -312, and -313 airplanes; Model A340-541 airplanes; and Model A340-642 airplanes.
(xiv) 7A1509-111, 7A1509-115 and 7A1509-117 | AD0487 through AD1007 inclusive | Slide, door 3 type 1 | A330-201, -202, -203, -223, and -243 airplanes; Model A330-301, -321, -322, -323, -341, -342, and -343 airplanes; Model A340-211, -212, and -213 airplanes; and Model A340-311, -312, and -313 airplanes.
(xv) 7A1510-109 through 7A1510-117 inclusive | AB0077 through AB0150 inclusive | Slide/Raft, door 3 type A, LH side | A330-201, -202, -203, -223, and -243 airplanes; Model A330-301, -321, -322, -323, -341, -342, and -343 airplanes; Model A340-211, -212, and -213 airplanes; and Model A340-311, -312, and -313 airplanes.
(xvi) 7A1510-110 through 7A1510-118 inclusive | AC0077 through AC0148 inclusive | Slide/Raft, door 3 type A, RH side | A330-201, -202, -203, -223, and -243 airplanes; Model A330-301, -321, -322, -323, -341, -342, and -343 airplanes; Model A340-211, -212, and -213 airplanes; and Model A340-311, -312, and -313 airplanes.
(xvii) 7A1539-109 through 7A1539-117 inclusive | AU0302 through AU0677 inclusive | Slide/Raft, door 2, LH side | A330-201, -202, -203, -223, and -243 airplanes; Model A330-301, -321, -322, -323, -341, -342, and -343 airplanes; Model A340-211, -212, and -213 airplanes; Model A340-311, -312, and -313 airplanes; Model A340-541 airplanes; and Model A340-642 airplanes.
(xviii) 7A1539-110 through 7A1539-118 inclusive | AX0302 through AX0673 inclusive | Slide/Raft, door 2, RH side | A330-201, -202, -203, -223, and -243 airplanes; Model A330-301, -321, -322, -323, -341, -342, and -343 airplanes; Model A340-211, -212, and -213 airplanes; Model A340-311, -312, and -313 airplanes; Model A340-541 airplanes; and Model A340-642 airplanes.
(xix) 7A1296-001 through 7A1296-004 inclusive | WB0001 through WB0029 inclusive, all S/Ns with a single letter R prefix, and all S/Ns with a single letter G prefix | Slide, mid door | A300 B2-1A, B2-1C, B2K-3C, and B2-203 airplanes; Model A300 B4-2C, B4-103, and B4-203 airplanes; Model A300 B4-601, B4-603, B4-620, and B4-622 airplanes; Model A300 B4-605R and B4-622R airplanes; and Model A300 F4-605R and F4-622R airplanes.
(xx) 7A1297-101 through 7A1297-203 inclusive | WF0001 through WF0256 inclusive, all S/Ns with a single letter R prefix, and all S/Ns with a single letter G prefix | Ramp/Slide, off-wing door | A310-203, -204, -221, and -222 airplanes; and Model A310-304, -322, -324, and -325 airplanes.
(xxi) 7A1298-001 through 7A1298-004 inclusive | WA0001 through WA0326 inclusive, all S/Ns with a single letter R prefix, and all S/Ns with a single letter G prefix | Slide, forward/aft door | A300 B2-1A, B2-1C, B2K-3C, and B2-203 airplanes; Model A300 B4-2C, B4-103, and B4-203 airplanes; Model A300 B4-601, B4-603, B4-620, and B4-622 airplanes; Model A300 B4-605R and B4-622R airplanes; Model A300 F4-605R and F4-622R airplanes; and Model A310-203, -204, -221, and -222 airplanes; and Model A310-304, -322, -324, and -325 airplanes.
(xxii) 7A1299-001 through 7A1299-006 inclusive | WE0001 through WE0148 inclusive, all S/Ns with a single letter R prefix, and all S/Ns with a single letter G prefix | Slide, emergency door | A300 B2-1A, B2-1C, B2K-3C, and B2-203 airplanes; Model A300 B4-2C, B4-103, and B4-203 airplanes; Model A300 B4-601, B4-603, B4-620, and B4-622 airplanes; Model A300 B4-605R and B4-622R airplanes; and Model A300 F4-605R and F4-622R airplanes.
(xxiii) 7A1300-001 through 7A1300-007 inclusive | WC0001 through WC0422 inclusive, all S/Ns with a single letter R prefix, and all S/Ns with a single letter G prefix | Slide/Raft, forward/aft door | A300 B2-1A, B2-1C, B2K-3C, and B2-203 airplanes; Model A300 B4-2C, B4-103, and B4-203 airplanes; Model A300 B4-601, B4-603, B4-620, and B4-622 airplanes; Model A300 B4-605R and B4-622R airplanes; Model A300 F4-605R and F4-622R airplanes; and Model A310-203, -204, -221, and -222 airplanes; and Model A310-304, -322, -324, and -325 airplanes.
(xxiv) 7A1359-001 through 7A1359-005 inclusive | WD0001 through WD0133 inclusive, all S/Ns with a single letter R prefix, and all S/Ns with a single letter G prefix | Slide/Raft, mid door | A300 B2-1A, B2-1C, B2K-3C, and B2-203 airplanes; Model A300 B4-2C, B4-103, and B4-203 airplanes; Model A300 B4-601, B4-603, B4-620, and B4-622 airplanes; Model A300 B4-605R and B4-622R airplanes; and Model A300 F4-605R and F4-622R airplanes.
(xxv) 7A1508-001 through 7A1508-017 inclusive, and 7A1508-101 through 7A1508-117 inclusive | AA0001 through AA1040 inclusive | Slide/Raft, doors 1 and 4 | A330-201, -202, -203, -223, and -243 airplanes; Model A330-301, -321, -322, -323, -341, -342, and -343 airplanes; Model A340-211, -212, and -213 airplanes; Model A340-311, -312, and -313 airplanes; Model A340-541 airplanes; and Model A340-642 airplanes.
(xxvi) 7A1509-001 through 7A1509-005 inclusive, and 7A1509-101 through 7A1509-117 inclusive | AD0001 through AD0486 inclusive | Slide, door 3 type 1 | A330-201, -202, -203, -223, and -243 airplanes; Model A330-301, -321, -322, -323, -341, -342, and -343 airplanes; Model A340-211, -212, and -213 airplanes; and Model A340-311, -312, and -313 airplanes.
(xxvii) 7A1510-001 through 7A1510-017 inclusive, and 7A1510-101 through 7A1510-117 inclusive | AB0001 through AB0076 inclusive | Slide/Raft, door 3 type A, LH side | A330-201, -202, -203, -223, and -243 airplanes; Model A330-301, -321, -322, -323, -341, -342, and -343 airplanes; Model A340-211, -212, and -213 airplanes; and Model A340-311, -312, and -313 airplanes.
(xxviii) 7A1510-002 through 7A1510-018 inclusive, and 7A1510-102 through 7A1510-118 inclusive | AC0001 through AC0076 inclusive | Slide/Raft, door 3 type A, RH side | A330-201, -202, -203, -223, and -243 airplanes; Model A330-301, -321, -322, -323, -341, -342, and -343 airplanes; Model A340-211, -212, and -213 airplanes; and Model A340-311, -312, and -313 airplanes.
(xxix) 7A1539-001 through 7A1539-017 inclusive, and 7A1539-101 through 7A1539-117 inclusive | AU0001 thru AU0301 inclusive | Slide/Raft, door 2, LH side | A330-201, -202, -203, -223, and -243 airplanes; Model A330-301, -321, -322, -323, -341, -342, and -343 airplanes; Model A340-211, -212, and -213 airplanes; Model A340-311, -312, and -313 airplanes; Model A340-541 airplanes; and Model A340-642 airplanes.
(xxx) 7A1539-002 through 7A1539-018 inclusive, and 7A1539-102 through 7A1539-118 inclusive | AX0001 thru AX0301 inclusive | Slide/Raft, door 2, RH side | A330-201, -202, -203, -223, and -243 airplanes; Model A330-301, -321, -322, -323, -341, -342, and -343 airplanes; Model A340-211, -212, and -213 airplanes; Model A340-311, -312, and -313 airplanes; Model A340-541 airplanes; and Model A340-642 airplanes.

Unsafe Condition

(d) This AD is prompted by several reports of corroded shear-pin restraints that prevented Goodrich evacuation systems from deploying properly. We are issuing this AD to prevent failure of an evacuation system, which could impede an emergency evacuation and increase the chance of injury to passengers and flightcrew during the evacuation.

Compliance

(e) You are responsible for having the actions required by this AD performed within the compliance times specified, unless the actions have already been done.

Service Bulletin Reference

(f) The term “service bulletin,” as used in this AD, means the following service bulletins, as applicable:

(1) For Goodrich evacuation systems identified in Tables 1 and 2 of this AD: Goodrich Service Bulletin 25-343, Revision 3, dated January 12, 2007; and

(2) For Goodrich evacuation systems identified in Table 3 of this AD: Goodrich Service Bulletin 25-344, Revision 2, dated October 11, 2006.

Compliance Times

(g) Perform the actions specified in paragraph (h) of this AD at the applicable compliance time specified in paragraph (g)(1) or (g)(2) of this AD.

(1) For Goodrich evacuation systems installed on Boeing Model 767 airplanes as off-wing ramp/slide units and identified in Table 1 of this AD: Do the actions within 18 months after the effective date of this AD.

(2) For Goodrich evacuation systems other than those identified in paragraph (g)(1) of this AD: Do the actions within 36 months after the effective date of this AD.

Replacement, or Inspections and Corrective Action

(h) Do the actions specified in paragraph (h)(1) or (h)(2) of this AD in accordance with the Accomplishment Instructions of the applicable service bulletin, except where the service bulletin specifies to record service bulletin compliance on a system information card, this AD requires recording accomplishment in accordance with an FAA-approved record-keeping system.

(1) For Goodrich evacuation systems identified in paragraphs (c)(1)(i) through (c)(1)(xxxi) inclusive in Table 1 of this AD, (c)(2)(i) through (c)(2)(iii) inclusive in Table 2 of this AD, and (c)(3)(i) through (c)(3)(xviii) inclusive in Table 3 of this AD: Replace the shear-pin restraints with new restraints.

(2) For Goodrich evacuation systems identified in paragraphs (c)(1)(xxxii) through (c)(1)(lxii) inclusive in Table 1 of this AD, (c)(2)(iv) through (c)(2)(ix) inclusive in Table 2 of this AD, and (c)(3)(xix) through (c)(3)(xxx) inclusive in Table 3 of this AD: Do an inspection to verify the manufacturing lot number of the shear-pin restraint. A review of airplane maintenance records is acceptable in lieu of this inspection if the manufacturing lot number of the shear-pin restraint can be conclusively determined from that review.

(i) If a manufacturing lot number from 3375 through 5551 inclusive is found, before further flight, replace the shear-pin restraint with a new restraint.

(ii) If a manufacturing lot number from 3375 through 5551 inclusive is not found, do a general visual inspection of the shear-pin restraints for discrepancies (i.e., corrosion, security of pin retainer/label, overall condition, and lack of play). If any discrepancy is found, before further flight, replace the shear-pin restraint with a new restraint.

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

Parts Installation

(i) As of the effective date of this AD, no Goodrich evacuation system identified in paragraph (h)(1) of this AD may be installed on any airplane, unless the shear-pin restraints have been replaced with new restraints in accordance with paragraph (h)(1) of this AD.

(j) As of the effective date of this AD, no Goodrich evacuation system identified in paragraph (h)(2) of this AD may be installed on any airplane, unless the shear-pin restraints have been inspected and found acceptable in accordance with paragraph (h)(2) of this AD.

Credit for Actions Done Using Previous Service Information

(k) Replacements and inspections done before the effective date of this AD in accordance with the applicable service bulletins identified in Table 4 of this AD, are acceptable for compliance with the requirements of paragraph (h) of this AD.

Table 4.—Acceptable Goodrich Service Bulletins
Goodrich Service Bulletin | Revision level | Date
25-343 | Original | October 15, 2003.
25-343 | 1 | January 31, 2005.
25-343 | 2 | October 11, 2006.
25-344 | Original | October 15, 2003.
25-344 | 1 | January 31, 2005.

Alternative Methods of Compliance (AMOCs)

(l)(1) The Manager, Los Angeles Aircraft Certification Office, FAA, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Material Incorporated by Reference

(m) You must use Goodrich Service Bulletin 25-343, Revision 3, dated January 12, 2007; or Goodrich Service Bulletin 25-344, Revision 2, dated October 11, 2006; as applicable; to do the actions required by this AD, unless the AD specifies otherwise.

(1) The Director of the Federal Register approved the incorporation by reference of Goodrich Service Bulletin 25-344, Revision 2, dated October 11, 2006, under 5 U.S.C. 552(a) and 1 CFR part 51.

(2) The Director of the Federal Register previously approved the incorporation by reference of Goodrich Service Bulletin 25-343, Revision 3, dated January 12, 2007, on March 11, 2008 (73 FR 6586, February 5, 2008).

(3) For service information identified in this AD, contact Goodrich, Aircraft Interior Products, ATTN: Technical Publications, 3414 South Fifth Street, Phoenix, AZ 85040-1169.

(4) You may review copies of the service information that is incorporated by reference at the FAA, Transport Airplane Directorate, 1601 Lind Avenue, SW., Renton, Washington; or at the National Archives and Records Administration (NARA). For information on the availability of this material at NARA, call 202-741-6030, or go to: http://www.archives.gov/federal_register/code_of_federal_regulations/ibr_locations.html.

Issued in Renton, Washington, on March 9, 2008.
Stephen P. Boyd,
Assistant Manager, Transport Airplane Directorate, Aircraft Certification Service.

[FR Doc. E8-5375 Filed 3-21-08; 8:45 am]

BILLING CODE 4910-13-P